DEPARTMENT OF THE TREASURY

Office of Foreign Assets Control

Designation of Two Individuals Pursuant to Executive Order 13553

SUB-AGENCY: Office of Foreign Assets Control.

ACTION: Notice.

SUMMARY: The Treasury Department's Office of Foreign Assets Control (“OFAC”) is publishing the names of two individuals newly-designated as persons whose property and interests in property are blocked pursuant to Executive Order 13553 of September 28, 2010, “Blocking Property of Certain Persons With Respect to Serious Human Rights Abuses by the Government of Iran and Taking Certain Other Actions.”

DATES: The designation by the Director of OFAC of the two individuals identified in this notice, pursuant to Executive Order 13553 of September 28, 2010, is effective December 13, 2011.

FOR FURTHER INFORMATION CONTACT: Assistant Director, Sanctions Compliance and Evaluation, Office of Foreign Assets Control, Department of the Treasury, Washington, DC 20220, Tel.: (202) 622-2490.

SUPPLEMENTARY INFORMATION:

Electronic and Facsimile Availability

This document and additional information concerning OFAC are available from OFAC's Web site (www.treas.gov/ofac) or via facsimile through a 24-hour fax-on-demand service, Tel.: (202) 622-0077.

Background

On September 28, 2010, the President issued Executive Order 13553, “Blocking Property of Certain Persons With Respect to Serious Human Rights Abuses by the Government of Iran and Taking Certain Other Actions” (the “Order”) pursuant to, inter alia, the International Emergency Economic Powers Act (50 U.S.C. 1701-06) (“IEEPA”) and the Comprehensive Iran Sanctions, Accountability, and Divestment Act of 2010 (Pub. L. 111-195). In the Order, the President took additional steps with respect to the national emergency declared in Executive Order 12957 of March 15, 1995.

Section 1 of the Order blocks, with certain exceptions, all property and interests in property that are in the United States, that come within the United States, or that are or come within the possession or control of any United States person, of persons listed in the Annex to the Order and of persons determined by the Secretary of the Treasury, in consultation with or at the recommendation of the Secretary of State, to meet any of the criteria set forth in the Order.

The Annex to the Order listed eight individuals whose property and interests in property are blocked pursuant to the Order.

On December 13, 2011, the Director of OFAC, in consultation with or at the recommendation of the Secretary of State, designated, pursuant to one or more of the criteria set forth in subparagraphs (a)(ii)(A) through (a)(ii)(C) of Section 1 of the Order, two individuals whose property and interests in property are blocked, pursuant to the Order. Agents or affiliates of Iran's Islamic Revolutionary Guard Corps whose property and interests in property are blocked pursuant to IEEPA include a reference to the “IRGC” in their listings on OFAC's Specially Designated Nationals and Blocked Persons List. See 31 CFR 561.201(a)(5) note.

The listing for these individuals is as follows:

• ARAGHI, Abdollah (a.k.a. ARAQI, Abdollah; a.k.a. ARAQI, Abdullah; a.k.a. ERAGHI, Abdollah; a.k.a. ERAQI, Abdollah); DOB 1945; POB Iran; Lieutenant Commander, IRGC Ground Force; Deputy Commander, IRGC Ground Forces; Brigadier General; Former Commander, Greater Tehran's Mohammad Rasulollah IRGC; Former Chief, Greater Tehran Revolutionary Guards (individual) [IRGC] [IRAN-HR]

• FIROUZABADI, Hassan (a.k.a. AQAI-FIRUZABADI, Hassan; a.k.a. FIROOZABADI, Hassan; a.k.a. FIRUZABADI, Hasan); DOB 3 Feb 1951; POB Mashhad, Iran; Chief of Staff of the Joint Armed Forces of the Islamic Republic of Iran; Chairman of the Armed Forces' Joint Chiefs of Staff; Major General (individual) [IRAN-HR]

Dated: December 13, 2011.
Adam J. Szubin,
Director, Office of Foreign Assets Control.

[FR Doc. 2011-33349 Filed 12-28-11; 8:45 am]

BILLING CODE 4810-AL-P